DEPARTMENT OF JUSTICE

Notice of Lodging of Proposed Consent Decree Under the Comprehensive Environmental Response, Compensation, and Liability Act

On March 7, 2019, the Department of Justice lodged a proposed Consent Decree with the United States District Court for the District of Oregon in the lawsuit entitled United States v. Astoria Marine Construction Company, Civil Action No. 3:19-cv-00337-SB.

The United States filed this lawsuit under the Comprehensive Environmental Response, Compensation, and Liability Act (“CERCLA”), 42 U.S.C. 9601 et seq., alleging releases and threats of releases of hazardous substances at or from the Astoria Marine Construction Company Superfund Site in Astoria, Oregon. The proposed Consent Decree requires Astoria Marine Construction Company to pay the Environmental Protection Agency $285,000 for past response costs. If any Remediation Funds remain after cleanup is complete, Astoria Marine Construction Company will pay EPA up to an additional $365,000 from such funds before distributing any additional funds to itself or its attorneys. If entered by the Court, the proposed Consent Decree would conclude this matter in its entirety.

The publication of this notice opens a period for public comment on the consent decree. Comments should be addressed to the Assistant Attorney General, Environment and Natural Resources Division, and should refer to United States v. Astoria Marine Construction Company, D.J. Ref. No. 90-11-3-11100/1. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the consent decree may be examined and downloaded at this Justice Department website: https://www.justice.gov/enrd/consent-decrees. We will provide a paper copy of the consent decree upon written request and payment of reproduction costs. Please mail your request and payment to: Consent Decree Library, U.S. DOJ—ENRD, P.O. Box 7611, Washington, DC 20044-7611.

Please enclose a check or money order for $4.75 for the consent decree and appendix (25 cents per page reproduction cost) or $4.25 for the consent decree without appendix, payable to the United States Treasury.

Susan M. Akers,
Assistant Section Chief, Environmental Enforcement Section, Environment and Natural Resources Division.

[FR Doc. 2019-04899 Filed 3-14-19; 8:45 am]

BILLING CODE 4410-15-P